DEPARTMENT OF HEALTH AND HUMAN SERVICES

Centers for Disease Control and Prevention

Ethics Subcommittee, Advisory Committee to the Director (ACD), Centers for Disease Control and Prevention (CDC); Meeting

In accordance with section 10(a)(2) of the Federal Advisory Committee Act (Pub. L. 92-463), the Centers for Disease Control and Prevention announces the aforementioned Subcommittee meeting.

Times and Dates: 1 p.m.-5 p.m., February 27, 2007. 8:30 a.m.-12 p.m., February 28, 2007.

Place: Centers for Disease Control and Prevention, 1825 Century Center, Conference Room 1 A/B, Atlanta, GA 30345.

Status: Open to the public, limited only by the space available. The meeting room accommodates approximately 75 people.

Purpose: The Ethics Subcommittee will provide counsel to the ACD, CDC, regarding a broad range of public health ethics questions and issues arising from programs, scientists and practitioners.

Matters To Be Discussed: Agenda items will include public health ethics of genomics; public health ethics of emergency preparedness and response; ethical considerations in pandemic influenza preparedness; ethical considerations for non-research data collections; demonstration of CDC's public health ethics intranet site; and procedural issues relating to the Ethics Subcommittee. Agenda items are subject to change as priorities dictate.

Due to programmatic matters, this Federal Register Notice is being published on less than 15 calendar days notice to the public (41 CFR 102-3.150(b)).

For Further Information Contact: Please contact Drue Barrett, Ph.D., Designated Federal Official, Ethics Subcommittee, CDC, 1600 Clifton Road, NE., M/S D-50, Atlanta, Georgia 30333, telephone 404/639-4690. E-mail: dbarrett@cdc.gov. The deadline for notification of attendance is February 20, 2007. The Director, Management Analysis and Services Office, has been delegated the authority to sign Federal Register notices pertaining to announcements of meetings and other committee management activities, for both the Centers for Disease Control and Prevention and the Agency for Toxic Substances and Disease Registry.

Elaine L. Baker,
Acting Director, Management Analysis and Services Office, Centers for Disease Control and Prevention.

[FR Doc. E7-2464 Filed 2-12-07; 8:45 am]

BILLING CODE 4163-18-P